DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the Board of Visitors for the Western Hemisphere Institute for Security Cooperation (“the Board”).

FOR FURTHER INFORMATION CONTACT: Jim Freeman, Advisory Committee Management Officer for the Department of Defense, 703-692-5952.

SUPPLEMENTARY INFORMATION: The Board's charter is being renewed in accordance with the Federal Advisory Committee Act (FACA) (5 U.S.C., Appendix) and 41 CFR 102-3.50(a). The charter and contact information for the Board's Designated Federal Officer (DFO) are found at https://www.facadatabase.gov/FACA/apex/FACAPublicAgencyNavigation.

The Board will provide the Secretary of Defense and the Deputy Secretary of Defense, through the Secretary of the Army, with independent advice and recommendations on matters pertaining to the operations and management of the Western Hemisphere Institute for Security Cooperation. The Board will be composed of 14 members, 6 of whom are designated by the Secretary of Defense including, to the extent practicable, persons from academia, religious, and human rights communities. The Secretary of Defense will also affirm the appointments, designated in statute, of the senior military officer responsible for training and doctrine in the U.S. Army (or designee) and the Commanders of the Combatant Commands with geographic responsibility for the Western Hemisphere (U.S. Northern Command and U.S. Southern Command) (or the designees of those officers). The Board will also be composed of: (a) Two Members of the Senate (the Chair and Ranking Member of the Armed Services Committee or a designee of either of them); (b) Two Members of the House of Representatives (the Chair and Ranking Member of the Armed Services Committee or a designee of either of them); and (c) One person designated by the Secretary of State.

Board members who are not full-time or permanent part-time Federal civilian officers, employees, or active duty members of the Armed Forces will be appointed as experts or consultants, pursuant to 5 U.S.C. 3109, to serve as special government employee members. Board members who are full-time or permanent part-time Federal civilian officers, employees, or active duty members of the Armed Forces will be appointed pursuant to 41 CFR 102-3.130(a), to serve as regular government employee members.

All members of the Board are appointed to provide advice on the basis of their best judgment without representing any particular point of view and in a manner that is free from conflict of interest. Except for reimbursement of official Board-related travel and per diem, members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: April 7, 2020.
Aaron T. Siegel,
Alternate OSD Federal Register Liaison Officer, Department of Defense.

[FR Doc. 2020-07591 Filed 4-9-20; 8:45 am]

BILLING CODE 5001-06-P